DEPARTMENT OF HEALTH AND HUMAN SERVICES

Request for Comments on Deliberation and Bioethics Education

AGENCY: Department of Health and Human Services, Office of the Secretary, Presidential Commission for the Study of Bioethical Issues.

ACTION: Notice.

SUMMARY: The Presidential Commission for the Study of Bioethical Issues is requesting public comment on deliberation and bioethics education.

DATES: To ensure consideration, comments must be received by July 20, 2015. Comments received after this date will be considered only as time permits.

ADDRESSES: Individuals, groups, and organizations interested in commenting on this topic may submit comments by email to info@bioethics.gov or by mail to the following address: Public Commentary, Presidential Commission for the Study of Bioethical Issues, 1425 New York Ave. NW., Suite C-100, Washington, DC 20005.

FOR FURTHER INFORMATION CONTACT: Hillary Wicai Viers, Communications Director, Presidential Commission for the Study of Bioethical Issues. Telephone: 202-233-3960. Email: hillary.viers@bioethics.gov. Additional information may be obtained at http://www.bioethics.gov.

SUPPLEMENTARY INFORMATION: On November 24, 2009, the President established the Presidential Commission for the Study of Bioethical Issues (Bioethics Commission) to advise him on bioethical issues generated by novel and emerging research in biomedicine and related areas of science and technology. The Commission is charged with identifying and promoting policies and practices that ensure ethically responsible conduct of scientific research and health care delivery. Undertaking these duties, the Commission seeks to identify and examine specific bioethical, legal, and social issues related to potential scientific and technological advances; examine diverse perspectives and possibilities for international collaboration on these issues; and recommend legal, regulatory, or policy actions as appropriate.

The Bioethics Commission is considering two overarching themes of its work, deliberation and education, focusing on their symbiotic relationship as twin pillars of public bioethics. Democratic deliberation has been a guiding ethical principle in the Commission's work, informing both its processes and its recommendations. The Commission also is committed to supporting bioethics education at all levels and across disciplines, through its own pedagogical materials and its recommendations for improving and integrating ethics education in a range of settings. This new project will explore the relationship between deliberation and bioethics education and the importance of public engagement in the bioethics conversation. For example, the Commission's deliberations not only advise the U.S. federal government, but also play a vital role in civic education. Bioethics education fosters the scientific and ethical literacy that supports public deliberation about science, medicine, public health, and bioethics, and helps to prepare students for their role as citizens in understanding different perspectives on complex issues that are often the subject of public policy debates.

At its meeting on November 6, 2014, the Commission heard from scholars in education, medical ethics, and political philosophy, and began its consideration of the relationship between deliberation and bioethics education and its own role in promoting both of these to advance public understanding of and engagement with bioethical debates. For example, in its most recent report, Ethics and Ebola: Public Health Planning and Response, the Commission made recommendations regarding the importance of public education and deliberation in preparing for public health emergencies. The ethical challenges that emerged in the U.S. response to the ongoing Ebola epidemic in western Africa underscore the need for appropriate forums for public engagement and debate on the ethical dimensions of public health decision making.

The Commission is interested in receiving comments from individuals, groups, and professional communities regarding deliberation and education in bioethics. The Commission is particularly interested in receiving public commentary regarding:

• The role of deliberation and deliberative methods to engage the public and inform debate in bioethics;

• Approaches to integrating public dialogue into the bioethics conversation;

• Bioethics education as a forum for fostering deliberative skills and preparing students to participate in public dialogue in bioethics;

• Goals of bioethics education (e.g., empirical training, normative foundations, clinical ethics), and the competencies and skills bioethics education seeks to foster;

• Methods and goals of designing bioethics education and training programs at different levels (e.g., undergraduate foci, master's degree programs, terminal degree programs, and professional certification);

• Potential training in bioethics across the lifespan at different educational levels and settings (e.g., primary/secondary education, community education, continuing professional education), and the role of education in laying the foundation for constructive public deliberation and debate in bioethics;

• The appropriate role of professional standards for bioethicists, including core competencies for bioethicists, and potential accreditation of bioethics training or education programs;

• Integrating bioethics education across different professional contexts, and establishing “dual competency” through reciprocal training in bioethics and a home or primary discipline (e.g., engineering and bioethics, medicine and bioethics, law and bioethics).

To this end, the Commission is inviting interested parties to provide input and advice through written comments. Comments will be publicly available, including any personally identifiable or confidential business information that they contain. Trade secrets should not be submitted.

Dated: April 13, 2015.
Lisa M. Lee,
Executive Director, Presidential Commission for the Study of Bioethical Issues.

[FR Doc. 2015-09172 Filed 4-20-15; 8:45 am]

BILLING CODE 4154-06-P